NATIONAL AERONAUTICS AND SPACE ADMINSTRATION

[Notice (04-083)]

Return to Flight Task Group; Meeting

AGENCY: National Aeronautics and Space Administration (NASA).

ACTION: Notice of meeting.

SUMMARY: In accordance with the Federal Advisory Committee Act, Pub. L. 92-463, as amended, the National Aeronautics and Space Administration announces a meeting by teleconference of the Return to Flight Task Group (RTF TG).

DATES: Thursday, July 22, 2004, from 11 a.m. until 12:30 p.m. Central Daylight Time.

ADDRESSES: The teleconference will originate from the Apollo Annex, Suite 101, 1740 NASA Parkway, Houston, TX 77598.

FOR FURTHER INFORMATION CONTACT: Mr. Vincent D. Watkins at (281) 792-7523.

SUPPLEMENTARY INFORMATION: The public may monitor the teleconference audio from the Apollo Annex Room 175 up to the seating capacity of the facility. Attendees will be requested to sign a register.

The agenda for the meeting is as follows:

—Welcome remarks from Co-Chair

—Discussion of status of NASA's implementation of selected Columbia Accident Investigation Board return to flight recommendations

—Action item summary from Executive Secretary

—Closing remarks from Co-Chair

It is imperative that the meeting be held on this date to accommodate the scheduling priorities of the key participants.

R. Andrew Falcon,
Advisory Committee Management Officer, National Aeronautics and Space Administration.

[FR Doc. 04-15838 Filed 7-12-04; 8:45 am]

BILLING CODE 7510-01-P